DEPARTMENT OF ENERGY

Federal Energy Regulatory Commission

[Docket Nos. CP15-554-000; CP15-554-001; CP15-554-008; CP15-555-000; CP15-555-006]

Atlantic Coast Pipeline, LLC, Dominion Energy Transmission, Inc.; Notice of Modified Request for Extension of Time

Take notice that on July 10, 2020, Atlantic Coast Pipeline, LLC (Atlantic) and Dominion Energy Transmission, Inc. (DETI) (collectively, applicants), filed a “Modification of Request for Extension of Time” (Amended Request). Applicants originally filed a June 16, 2020 “Request for Extension of Time”, requesting that the Federal Energy Regulatory Commission (Commission) grant a two-year extension of time, until October 13, 2022, to construct and place into service the facilities that comprise Atlantic's Atlantic Coast Pipeline (ACP) and DETI's Supply Header Project (SHP) as described in the original certificate authorization issued on October 13, 2017 (Certificate Order).¹ The Certificate Order required Atlantic and DETI to construct and place the facilities in service by October 13, 2020.²

¹ Atlantic Coast Pipeline, LLC, 161 FERC ¶ 61,042 (2017).

² Id. at Ordering Paragraph E.

DETI explains that on July 5, 2020, DETI and Duke Energy announced the cancellation of the Atlantic Coast Pipeline. DETI avers that it will not be placing the ACP in service and that it has initiated planning the abandonment and restoration of ACP project areas. DETI further stated that because ACP will not be placed in-service, it no longer requests an extension of the Order condition related to making its facilities available for service. However, DETI requests, to the extent its necessary, a one-year extension of time, until October 13, 2021, to complete any construction activities that may be required to complete the abandonment and restoration of the ACP project areas.

Additionally, DETI states that approximately 31 percent of the SHP mainline has been installed, and substantial work has occurred at three of the four existing compressor stations. DETI states that it is exploring options to utilize certain SHP facilities in conjunction with its existing system. Accordingly, DETI requests a two-year extension of time, until October 13, 2022 to complete construction of certain SHP facilities.

This notice establishes a 15-calendar day comment period deadline. Any person wishing to comment on Atlantic's and DETI's modified request for an extension of time may do so. No reply comments or answers will be considered.

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments in lieu of paper using the “eFiling” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Comment Date: 5:00 p.m. Eastern Time on August 3, 2020.

Dated: July 17, 2020.
Kimberly D. Bose,
Secretary.

[FR Doc. 2020-15966 Filed 7-21-20; 8:45 am]

BILLING CODE 6717-01-P